DEPARTMENT OF ENERGY

Federal Energy Regulatory Commission

[Docket No. IC01-719B-000; FERC-719B]

Proposed Information Collection and Request for Comments

May 10, 2001.

AGENCY: Federal Energy Regulatory Commission, DOE.

ACTION: Request for Office of Management and Budget Emergency Processing of proposed information collection and request for comments.

SUMMARY: The Federal Energy Regulatory Commission (Commission) is providing notice of a request to the Office of Management and Budget (OMB) for emergency processing of a proposed collection of information in connection with the California electricity markets, and is soliciting public comment on that information collection.

DATES: Comments are requested on or before May 14, 2001.

ADDRESSES: Send comments to: (1) Michael Miller, Office of the Chief Information Officer, CI-1, Federal Energy Regulatory Commission, 888 First Street NE., Washington, DC 20426. Mr. Miller may be reached by telephone at (202) 208-1415 and by e-mail at mike.miller@ferc.fed.us; and (2) Amy Farrell, FERC Desk Officer, Office of Information and Regulatory Affairs, Office of Management and Budget, Room 10202 NEOB, 725 17th Street NW., Washington, DC 20503. Ms. Farrell may be reached by telephone at (202) 395-7318 or by fax at (202) 395-7285.

FOR FURTHER INFORMATION CONTACT: Stuart Fischer, Office of the General Counsel, Federal Energy Regulatory Commission, (202) 208-2103.

SUPPLEMENTARY INFORMATION: The Federal Power Act directs the Commission to ensure just and reasonable rates for transmission and wholesale sales of electricity in interstate commerce. See 16 U.S.C. 824e(a). To enable the Commission to fulfill this duty, the Federal Power Act also authorizes the Commission to conduct investigations of, and collect information from, public utilities. See 16 U.S.C. 825, 825c, 825f, and 825j. Commission staff has been investigating the California electricity market, which is in a state of emergency with prices at extremely high levels and, on some days, rotating blackouts.

One of the likely reasons for the high prices is forced and scheduled outages by electric generators in California. Each day, for the past few months, the California Independent System Operator (ISO) has reported outages of well over 10,000 megawatts for generating plants in California. In addition to causing higher prices, the outages limit the availability of electric power in California, leading the ISO to order rotating blackouts in the state to preserve the transmission system. The ISO ordered rotating blackouts on May 7 and 8, 2001, and many more such blackouts are anticipated over the next few months if increased summer demand is not matched by generation supply. Further, in 2000 electricity prices continued to be high even after the summer cooling season, and the same pattern may recur this year.

Commission staff believes that it is in the public interest to monitor generation outages in California to assess their causes, particularly during the summer cooling season when electricity demand is at its highest. Commission staff proposes to do so by requesting that selected generators in the state of California electronically provide to the Commission information on total or partial generation unit outages within 24 hours of their occurrence, whether scheduled, forced or otherwise.

Specifically, Commission staff will be requesting information only from generators that own, operate or control in California an individual generation unit with a generating capacity of 30 MW or more or generation units aggregating capacity of 50 MW or more. Commission staff will not request information concerning generation units owned by the independent transmission utilities in California (Pacific Gas and Electric Company, San Diego Gas & Electric Company and Southern California Edison Company). For the purposes of this data collection, Commission staff considers an outage partial if it reduces the available output of a generation unit below its nameplate rated capacity or below the reliable capacity of the unit as determined by contract with the California ISO. The Commission staff will treat information provided by the generators as non-public pursuant to the provisions of 18 CFR 1b.9.

Commission staff will be requesting that the information be provided through a template that will be mailed to the generators and that can be requested from Commission staff at the E-Mail address CALoutages@ferc.fed.us. That electronic address is also the address to which Commission staff is requesting that the generators send the outage information. To further assist monitoring efforts, Commission staff will be requesting that generators provide the information on the template for all outages that are current as of the date they receive the letter containing the template. Although Commission staff will be requesting information from municipalities concerning their generation units in California, Commission staff is requesting such data on a voluntary basis and is not questioning the jurisdictional status of those entities.

Because Commission staff is requesting information from a large number of generators (over 100) concerning future outages, the data collection may be subject to the Paperwork Reduction Act, which requires OMB to review certain federal reporting requirements. 44 U.S.C. 3507. In light of the critical condition of the California electricity markets, particularly during the summer heating season, Commission staff will be requesting emergency processing of this proposed information collection. If the Commission followed the regular provisions of the Paperwork Reduction Act, Commission staff would be unable to collect this information until most of the summer cooling season was over.

The electronic template asks for the following data: Date of Report; Outage Report Type (Beginning or Ending); Company Name; Name of the Contact Person and Telephone Number; Unit Name; Year Unit Was Built; Unit Type; Is the Unit RMR (Reliability-Must-Run) or Non-RMR; Fuel Type; Nameplate Capacity; Re-Rated Capacity; Output Before Outage; Outage Type (Forced or Scheduled); Complete or Partial Outage; Megawatts Out; Date Outage Began; Time Outage Began; Date Outage Ended or Expected to End; Time Outage Ended or Expected to End; Reason for Outage; and whether a post-outage report was created. Most of the information asked for on the template, such as the identification and operating characteristics of a generation unit, would remain constant and would not require additional time to compile after the first report. The only new data in later reports would be in those fields asking for information about an outage.

Commission staff estimates that between 100 and 125 entities owning generation could be subject to this reporting request, and that during any given week, only 15-25 of those entities would likely have an outage to report. However, many entities own several generation units, so that actual number of reports submitted by each entity would vary. Based on information compiled by the California ISO, for the seven day period between May 2 and May 8, 2001, there were 157 instances in which a report would have been submitted pursuant to the proposed information collection. Therefore, for the 180 days the reporting request would be in place, Commission staff anticipates that a maximum of approximately 4,082 reports would be filed.

Because Commission staff has created a pre-existing template, generators need not take any time to develop a reporting format. Commission staff estimates that it would take each generator approximately one hour to fill out an initial report for a generation unit, but, as most of the unit information will remain constant (such as its name, fuel type and megawatt rating), it should take 20 minutes or less to fill out and send each subsequent report.

The outage reports are to be submitted electronically within 24 hours of when a total or partial unit outage begins or ends. As stated above, based on information compiled by the California ISO, for the seven day period between May 2 and May 8, 2001, there were 157 instances in which a report would have been submitted. Assuming the same number of instances for the 180 days for which this information collection is requested, the total number of hours it would take to comply with the reporting requirement would be approximately 1,465 hours (157 hours for initial submission and 1,308 hours for subsequent submissions, assuming 20 minutes per submission). Commission staff estimates a cost of $50 per hour for complying with the reporting requirement, based on salaries for professional and clerical staff, as well as direct and indirect overhead costs. Therefore, the total estimated cost of compliance would be $73,250.

Commission staff will submit this reporting requirement to OMB for approval. OMB's regulations describe the process that federal agencies must follow in order to obtain OMB approval of reporting requirements. See 5 CFR Part 1320. The standards for emergency processing of information collections appear at 5 CFR 1320.13. If OMB approves a reporting requirement, it will assign an information collection control number to that requirement. If a request for information subject to OMB review does not display a valid control number, or if the agency has not provided a justification as to why the control number cannot be displayed, then the recipient is not required to respond.

OMB requires federal agencies seeking approval of reporting requirements to allow the public an opportunity to comment on the proposed reporting requirement. 5 CFR 1320.5(a)(1)(iv). Therefore, comments are being solicited on:

(1) Whether the collection of the information is necessary for the proper performance of the Commission's functions, including whether the information will have practical utility;

(2) The accuracy of Commission staff's estimate of the burden of the collection of this information, including the validity of the methodology and assumptions used;

(3) The quality, utility, and clarity of the information to be collected; and

(4) How to minimize the burden of the collection of this information on respondents, including the use of appropriate automated electronic, mechanical, or other forms of information technology.

David P. Boergers,
Secretary.

[FR Doc. 01-12175 Filed 5-11-01; 8:45 am]

BILLING CODE 6717-01-M